DEPARTMENT OF TRANSPORTATION

Federal Aviation Administration

14 CFR Part 39

[Docket No. 2003-NE-12-AD; Amendment 39-13434; AD 2004-01-20]

RIN 2120-AA64

Airworthiness Directives; Rolls-Royce plc RB211 Series Turbofan Engines

AGENCY: Federal Aviation Administration (FAA), DOT.

ACTION: Final rule.

SUMMARY: The FAA is adopting a new airworthiness directive (AD) for Rolls-Royce plc (RR) RB211-22B series, RB211-524B, -524C2, -524D4, -524G2, -524G3, and -524H series, and RB211-535C and -535E series turbofan engines with high pressure compressor (HPC) stage 3 disc assemblies, part numbers (P/Ns) LK46210, LK58278, LK67634, LK76036, UL11706, UL15358, UL22577, UL22578, and UL24738 installed. This AD allows disc assemblies not modified by a certain RR service bulletin to reach their full life only after the disc assemblies are modified with anti-corrosion protection. This AD results from the manufacturer's reassessment of the corrosion risk on HPC stage 3 disc assemblies that have not yet been modified with sufficient application of anti-corrosion protection. We are issuing this AD to prevent corrosion-induced uncontained disc failure, resulting in damage to the airplane.

DATES: This AD becomes effective February 24, 2004.

The incorporation by reference of certain publications listed in the regulations is approved by the Director of the Federal Register as of February 24, 2004.

ADDRESSES: You can get the service information identified in this AD from Rolls-Royce plc, PO Box 31, Derby, England, DE248BJ; telephone: 011-44-1332-242424; fax: 011-44-1332-245-418.

You may examine the AD docket, by appointment, at the FAA, New England Region, Office of the Regional Counsel, 12 New England Executive Park, Burlington, MA. You may examine the service information, at the FAA, New England Region, Office of the Regional Counsel, 12 New England Executive Park, Burlington, MA; or at the Office of the Federal Register, 800 North Capitol Street, NW., suite 700, Washington, DC.

FOR FURTHER INFORMATION CONTACT: Ian Dargin, Aerospace Engineer, Engine Certification Office, FAA, Engine And Propeller Directorate, 12 New England Executive Park; Burlington, MA 01803-5299; telephone (781) 238-7178; fax (781) 238-7199.

SUPPLEMENTARY INFORMATION: The FAA proposed to amend 14 CFR Part 39 with a proposed airworthiness directive (AD). The proposed AD applies to RR RB211-22B series, RB211-524B, -524C2, -524D4, -524G2, -524G3, and -524H series, and RB211-535C and -535E series turbofan engines with HPC stage 3 disc assemblies, P/Ns LK46210, LK58278, LK67634, LK76036, UL11706, UL15358, UL22577, UL22578, and UL24738 installed. We published the proposed AD in the Federal Register on July 30, 2003 (68 FR 44672). That action proposed to allow disc assemblies not modified by a certain RR service bulletin to reach their full life only after the disc assemblies are modified with anti-corrosion protection.

Comments

We provided the public the opportunity to participate in the development of this AD. We have considered the comments received.

Request To Add a Service Bulletin Reference

Three commenters request that the FAA include a reference to RR Mandatory Service Bulletin (MSB) No. RB.211-72-9661, since the AD action is based on compliance with the procedures in this service bulletin.

We agree that the AD action is based on performing the procedures in (MSB) No. RB.211-72-9661, however, we included all pertinent compliance requirements in the AD and chose to not incorporate by reference that MSB. However, because that MSB is the basis for the AD action, we have added a reference to it in the Related Information paragraph.

Request To Change Compliance Date

One commenter requests that the AD be changed to have the same compliance dates as Service Bulletin (SB) No. RB.211-72-9434, Revision 4, dated January 12, 2002. The commenter points out that the SB compliance time for discs in service more than 12 years is from the date of introduction of the original SB. The commenter also points out that the compliance time is based on the date of the SB revision date of January 4, 2002, and would, therefore, require rework to be completed before January 4, 2007.

We partially agree. While the commenter is correct regarding the compliance date differences between the AD and the SB, the intent of the SB is met because the AD is consistent with the SB by mandating rework before exceeding the upper cyclic limit of the discs. Further, we agree that removal of discs in service more than 12 years from the date of the SB revision date, would require the AD to reference 1990 instead of 1992. Therefore, we have changed this date in the AD accordingly.

Conclusion

We have carefully reviewed the available data, including the comments received, and determined that air safety and the public interest require adopting the AD with the changes described previously. We have determined that these changes will neither increase the economic burden on any operator nor increase the scope of the AD.

Changes to 14 CFR Part 39—Effect on the AD

On July 10, 2002, the FAA published a new version of 14 CFR part 39 (67 FR 47997, July 22, 2002), which governs the FAA's AD system. That regulation now includes material that relates to altered products, special flight permits, and alternative methods of compliance. The material previously was included in each individual AD. Since the material is included in 14 CFR part 39, we will not include it in future AD actions.

Cost of Compliance

There are about 2,000 RR RB211-22B series, RB211-524B, -524C2, -524D4, -524G2, -524G3, and -524H series, and RB211-535C and -535E series turbofan engines of the affected design in the worldwide fleet. We estimate that 1,000 engines installed on airplanes of U.S. registry would be affected by this AD. We also estimate that it would take about 31 work hours per engine to perform the actions, and that the average labor rate is $65 per work hour. Required parts would cost about $38,000 per engine. Based on these figures, the total cost of the AD to U.S. operators is estimated to be $40,015,000.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-12-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-01-20 Rolls-Royce plc: Amendment 39-13434. Docket No. 2003-NE-12-AD.

Effective Date

(a) This AD becomes effective February 24, 2004.

Affected ADs

(b) None.

Applicability

(c) This AD applies to Rolls-Royce plc (RR) RB211-22B series, RB211-524B, -524C2, -524D4, -524G2, -524G3, and -524H series, and RB211-535C and—535E series turbofan engines with high pressure compressor (HPC) stage 3 disc assemblies, part numbers (P/Ns) LK46210, LK58278, LK67634, LK76036, UL11706, UL15358, UL22577, UL22578, and UL24738 installed. These engines are installed on, but not limited to, Boeing 747, Boeing 757, Boeing 767, Lockheed L-1011, and Tupolev Tu204 series airplanes.

Unsafe Condition

(d) This AD results from the manufacturer's reassessment of the corrosion risk on HPC stage 3 disc assemblies that have not yet been modified with sufficient application of anti-corrosion protection. The actions specified in this AD are intended to prevent corrosion-induced uncontained disc failure, resulting in damage to the airplane.

Compliance

(e) Compliance with this AD is required as indicated, unless already done.

Removal of HPC Stage 3 Discs

(f) Remove from service affected HPC stage 3 disc assemblies identified in the following Table 1, using one of the following criteria:

Table 1.—Affected HPC Stage 3 Disc Assemblies
Engine model | Rework band for cyclic life accumulated on disc assemblies P/Ns LK46210 and LK58278 (pre RR service bulletin (SB) No. RB.211-72-5420) | Rework band for cyclic life accumulated on disc assembly P/N LK67634 (pre RR SB No.RB.211-72-5420) | Rework band for cyclic life accumulated on P/Ns LK76036, UL11706, UL15358, UL22577, UL22578, and UL24738 disc assemblies (pre RR SB No. RB.211-72-9434)
-22B series | 4,000-6,200 | 7,000-10,000 | 11,500-14,000
-535E4 series | N/A | N/A | 9,000-15,000
-524B-02, B-B-02, B3-02, and B4 series, Pre and SB No. 72-7730 | 4,000-6,000 | 7,000-9,000 | 11,500-14,000
-524B2 and C2 series, Pre SB No. 72-7730 | 4,000-6,000 | 7,000-9,000 | 11,500-14,000
-524B2-B-19 and C2-B-19, SB No. 72-7730 | 4,000-6,000 | 7,000-9,000 | 8,500-11,000
-524D4 series, Pre SB No. 72-7730 | 4,000-6,000 | 7,000-9,000 | 11,500-14,000
-524D4-B series, SB No. 72-7730 | 4,000-6,000 | 7,000-9,000 | 8,500-11,000
-524G2, G3, H, and H2 series | 4,000-6,000 | 7,000-9,000 | 8,500-11,000

(1) For discs that entered into service before 1990, remove disc and rework as specified in paragraph (g)(2) of this AD, within five years from the effective date of this AD, but not to exceed the upper cyclic limit of Table 1 of this AD before rework. Discs reworked may not exceed the manufacturer's published cyclic limit in the time limits section of the manual.

(2) For discs that entered into service in 1990 or later, remove disc within the cyclic life rework bands in Table 1 of this AD, or within 17 years after the date of the disc assembly entering into service, whichever is sooner, but not to exceed the upper cyclic limit of Table 1 of this AD before rework. Discs reworked may not exceed the manufacturer's published cyclic limit in the time limits section of the manual.

(3) For disc assemblies that when new, were modified with an application of anti-corrosion protection and re-marked to P/N LK76036 (not previously machined) as specified by Part 1 of the original issue of RR service bulletin (SB) No. RB.211-72-5420, dated April 20, 1979, remove RB211-22B disc assemblies before accumulating 10,000 cycles-in-service (CIS), and remove RB211-524 disc assemblies before accumulating 9,000 CIS.

(4) If the disc assembly date of entry into service cannot be determined, the date of disc manufacture may be obtained from RR and used instead.

Optional Rework of HPC Stage 3 Discs

(g) Rework HPC stage 3 disc assemblies that were removed in paragraph (f) of this AD as follows:

(1) For disc assemblies that when new, were modified with an application of anti-corrosion protection and re-marked to P/N LK76036 (not previously machined) as specified by Part 1 of the original issue of RR SB RB.211-72-5420, dated April 20, 1979, rework disc assemblies and re-mark to either LK76034 or LK78814 using paragraph 2.B. of the Accomplishment Instructions of RR SB No. RB.211-72-5420, Revision 4, dated February 29, 1980. This rework constitutes terminating action to the removal requirements in paragraph (f) of this AD.

(2) For all other disc assemblies, rework using Paragraph 3B. of the Accomplishment Instructions of RR SB No. RB.211-72-9434, Revision 4, dated January 12, 2000. This rework constitutes terminating action to the removal requirements in paragraph (f) of this AD.

Note 1: If rework is done on disc assemblies that are removed before the disc assembly reaches the lower life of the cyclic life rework band in Table 1 of this AD, artificial aging of the disc to the lower life of the rework band, at time of rework, is required.

Alternative Methods of Compliance

(h) The Manager, Engine Certification Office, has the authority to approve alternative methods of compliance for this AD if requested using the procedures found in 14 CFR 39.19.

Material Incorporated by Reference

(i) You must use Rolls-Royce Service Bulletin No. RB.211-72-5420, Revision 4, dated February 29, 1980, and Rolls-Royce Service Bulletin No. RB.211-72-9434, Revision 4, dated January 12, 2000, to perform the rework required by this AD. The Director of the Federal Register approved the incorporation by reference of these service bulletins in accordance with 5 U.S.C. 552(a) and 1 CFR part 51. You can get copies from Rolls-Royce plc, PO Box 31, Derby, England, DE248BJ; telephone: 011-44-1332-242424; fax: 011-44-1332-245-418. You can review copies at the FAA, New England Region, Office of the Regional Counsel, 12 New England Executive Park, Burlington, MA; or at the Office of the Federal Register, 800 North Capitol Street, NW., suite 700, Washington, DC.

Related Information

(j) Civil Aviation Authority airworthiness directive 004-01-94, dated January 4, 2002, and RR Mandatory Service Bulletin No. RB.211-72-9661, Revision 3, dated December 20, 1999, pertain to the subject of this AD.

Issued in Burlington, Massachusetts, on January 8, 2004.
Jay J. Pardee,
Manager, Engine and Propeller Directorate, Aircraft Certification Service.

[FR Doc. 04-759 Filed 1-16-04; 8:45 am]

BILLING CODE 4910-13-P